DEPARTMENT OF THE TREASURY

Agency Information Collection Activities; Proposed Collection; Comment Request; Post-Contract Award Information

AGENCY: Departmental Offices, U.S. Department of the Treasury.

ACTION: Notice and request for comments.

SUMMARY: The Department of the Treasury, as part of its continuing effort to reduce paperwork and respondent burden, invites the general public and other Federal agencies to take this opportunity to comment on proposed and/or continuing information collections, as required by the Paperwork Reduction Act of 1995. The Department of the Treasury, Office of the Procurement Executive, is soliciting comments concerning on OMB Control Number 1505-0080, Post-Contract Award Information.

DATES: Written comments must be received on or before May 12, 2017.

ADDRESSES: You may submit comments by mail to: Thomas O'Linn, Office of the Procurement Executive, Department of the Treasury, 1500 Pennsylvania Ave. NW., Washington DC 20220. All responses to this notice will be included in the request for OMB's approval. All comments will also become a matter of public record.

FOR FURTHER INFORMATION CONTACT: Requests for additional information or request a copy of the information collection should be directed to Thomas O'Linn at (202) 622-2092.

SUPPLEMENTARY INFORMATION: Title: Post-Contract Award Information.

OMB Number: 1505-0080.

Type of Review: Reinstatement with change of a previously approved collection.

Abstract: The information requested is specific to each contract, and is required for Treasury to evaluate properly the progress made and/or management controls used by contractors providing supplies or services to the Government and to determine contractors' compliance with the contracts, in order to protect the Government's interest.

Affected Public: Private Sector: Businesses or other for-profits.

Estimated Number of Respondents: 9,875.

Estimated Number of Responses per Respondent: 1.

Estimated Hours per Response: 24.

Estimated Total Annual Burden Hours: 237,000.

Request for Comments: Comments submitted in response to this notice will be summarized and/or included in the request for OMB approval. All comments will become a matter of public record. Comments are invited on: (a) Whether the collection of information is necessary for the proper performance of the functions of the agency, including whether the information has practical utility; (b) the accuracy of the agency's estimate of the burden of the collection of information, including the validity of the methodology and assumptions used; (c) ways to enhance the quality, utility, and clarity of the information to be collected; (d) ways to minimize the burden of the collection of information on respondents, including through the use of automated collection techniques or other forms of information technology, and (e) estimates of capital or start-up costs and costs of operation, maintenance, and purchase of services to provide information.

Authority: 44 U.S.C. 3501 et seq.

Dated: March 7, 2017.
Spencer W. Clark,
Treasury PRA Clearance Officer.

[FR Doc. 2017-04821 Filed 3-10-17; 8:45 am]

BILLING CODE 4810-25-P